DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2011, there were four applications approved. This notice also includes information on three applications, approved in August 2011, inadvertently left off the August 2011 notice. Additionally, 11 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Metropolitan Nashville Airport Authority, Nashville, Tennessee.

Application Number: 11-17-C-00-BNA.

Application Type: Impose and use a PFC.

PFC Level: $3.00.

Total PFC Revenue Approved in this Decision: $2,500,000.

Earliest Charge Effective Date: January 1, 2017.

Estimated Charge Expiration Date: March 1, 2017.

Class of Air Carriers Not Required To Collect PFC's:

Air taxi operators that have less than one percent of passenger boardings, enplane less than 25,000 passengers per year, and/or provide unscheduled service at Nashville International Airport (BNA).

Determination: Approved. Based on information contained in the public agency's application, the FAA has determined that the approved class accounts for less than 1 percent of the total annual enplanements at BNA.

Brief Description of Projects Approved for Collection and Use:

Reconstruct taxiway Kilo.

Light emitting diode taxiway lighting upgrade 2L.

Pavement condition index airfield inspection.

Brief Description of Withdrawn Projects:

Safety management study.

Date of withdrawal: May 20, 2011.

Disparity study.

Date of withdrawal: August 23, 2011.

Decision Date: August 24, 2011.

For Further Information Contact: Cynthia Wills, Memphis Airports District Office, (901) 322-8190.

Public Agency: Reno-Tahoe Airport Authority, Reno, Nevada.

Application Number: 11-11-C-00-RNO.

Application Type: Impose and use a PFC.

PFC Level: $4.50.

Total PFC Revenue Approved in this Decision: $25,491,376.

Earliest Charge Effective Date: October 1, 2013.

Estimated Charge Expiration Date: April 1, 2017.

Classes of Air Carriers Not Required To Collect PFC's:

(1) Nonscheduled/on demand air carriers filing FAA Form 1800-31; (2) commuter or small certificated air carriers filing Department of Transportation (DOT) Form T-100; and (3) foreign air carriers filing DOT Form T-100(f).

Determination: Approved. Based on information contained in the public agency's application, the FAA has determined that each of the approved classes accounts for less than 1 percent of the total annual enplanements at Reno/Tahoe International Airport.

Brief Description of Project Approved for Collection and Use at a $4.50 PFC Level: Centralized security checkpoint.

Brief Description of Projects Approved for Collection and Use at a $3.00 PFC Level:

Snow removal equipment building.

Sand storage building.

Central disposal facility upgrade.

Brief Description of Projects Partially Approved for Collection and Use at a $3.00 PFC Level: Geographical information system.

Determination: Partially approved. Certain project components were determined to be ineligible.

Taxiway C extension.

Determination: Partially approved. The public agency requested that the project be funded only with PFC revenue in the PFC application and later submitted an application for an Airport Improvement Program (AIP) grant to partially fund the same project. Therefore, the approved FAA amount was limited to that portion of the cost not included in the AIP grant application.

Decision Date: August 29, 2011.

For Further Information Contact: Gretchen Kelly, San Francisco Airports District Office, (650) 876-2778, extension 623.

Public Agency: City of Chicago, Illinois.

Application Number: 11-25-C-00-ORD.

Application Type: Impose and use a PFC.

PFC Level: $4.50.

Total PFC Revenue Approved in this Decision: $90,787,103.

Earliest Charge Effective Date: February 1, 2038.

Estimated Charge Expiration Date: December 1, 2038.

Class of Air Carriers Not Required To Collect PFC's: Air taxi.

Determination: Approved. Based on information contained in the public agency's application, the FAA has determined that the approved class accounts for less than 1 percent of the total annual enplanements at Chicago O'Hare International Airport.

Brief Description of Projects Approved for Collection and Use at a $4.50 PFC Level:

Development of non-exclusive use gates and related terminal facilities.

Renovation of concourse L terminal facilities.

Reimbursement for prior development of common use gate and related terminal facilities in concourse E.

Decision Date: August 31, 2011.

For Further Information Contact: Amy Hanson, Chicago Airports District Office, (847) 294-7354.

Public Agency: City of Durango and County of La Plata, Durango, Colorado.

Application Number: 11-07-C-00-DRO.

Application Type: Impose and use a PFC.

PFC Level: $4.50.

Total PFC Revenue Approved in this Decision: $953,500.

Earliest Charge Effective Date: November 1, 2011.

Estimated Charge Expiration Date: August 1, 2012.

Class of Air Carriers Not Required To Collect PFC's: None.

Brief Description of Projects Approved for Collection and Use:

Replace security access control system.

Replace runway weather information system, runway 3/21.

Rehabilitate commercial parking apron.

Conduct wildlife hazard assessment.

Rehabilitate taxiway A from A5 to and including A6.

Purchase snow removal equipment carrier vehicle.

Brief Description of Disapproved Project: Terminal seating.

Determination: Disapproved. This project is ineligible as a stand-alone project.

Decision Date: September 1, 2011.

For Further Information Contact: Chris Schaffer, Denver Airports District Office, (303) 342-1258.

Public Agency: Roanoke Regional Airport Commission, Roanoke, Virginia.

Application Number: 11-04-C-00-ROA.

Application Type: Impose and use a PFC.

PFC Level: $4.50.

Total PFC Revenue Approved in this Decision: $4,279,550.

Earliest Charge Effective Date: January 1, 2013.

Estimated Charge Expiration Date: March 1, 2016.

Classes of Air Carriers Not Required to Collect PFC's:

(1) Air carriers operating under Part 135 or Part 298 on an on-demand, nonscheduled, whole plane charter basis; and (2) air taxi/air charter operators filing FAA Form 1800-31.

Determination: Approved. Based on information contained in the public agency's application, the FAA has determined that each approved class accounts for less than 1 percent of the total annual enplanements at Roanoke Regional Airport.

Brief Description of Projects Approved for Collection and Use:

Remove obstructions in runway protection zone, runway 6.

Upgrade/expand terminal electrical and communication systems.

Upgrade terminal heating, ventilation, and air conditioning system and cooling tower.

Replace flight information display and intercom systems.

Replace terminal fire alarm system.

Demolition of building no. 7 for general aviation development.

Retrofit three jet bridges for regional jet adaptors.

Replace terminal roof—phase 1.

Install security improvements and barricades.

Modify screening checkpoint for additional portal.

Acquire land for runway protection zone, runway 6.

Conduct wildlife hazard study.

PEG program formulation.

Annual PFC administrative costs.

Decision Date: September 6, 2011.

For Further Information Contact: Jeffery Breeden, Washington Airports District Office, (703) 661-1363.

Public Agency: County of Milwaukee, Milwaukee, Wisconsin.

Application Number: 11-16-C-00-MKE.

Application Type: Impose and use a PFC.

PFC Level: $3.00.

Total PEG Revenue Approved in This Decision: $28,971,429.

Earliest Charge Effective Date: August 1, 2022.

Estimated Charge Expiration Date: January 1, 2024.

Class of Air Carriers Not Required To Collect PFC's: Air taxi/commercial operators filing FAA Form 1800-31.

Determination: Approved. Based on information contained in the public agency's application, the FAA has determined that the approved class accounts for less than 1 percent of the total annual enplanements at General Mitchell International Airport.

Brief Description of Projects Approved for Collection and Use:

Noise barrier study.

Concourse E ground power and preconditioned air units.

Perimeter and aircraft rescue and firefighting road reconfiguration, construction.

Runways 1U19R and 7R/25L intersection repaving, construction.

Perimeter road bridge over Howell Avenue, design.

Inline baggage security, construction.

Gate D56 improvements, design and construction.

Snow removal equipment.

Redundant main electrical service feed, design.

Terminal roadway signage, design.

PFC administrative costs.

Brief Description of Withdrawn Project:

Ramp electrification design.

Date of Withdrawal: May 9, 2011.

Decision Date: September 8, 2011.

For Further Information Contact: Sandy DePottey, Minneapolis Airports District Office, (612) 713-4363.

Public Agency: City of Charlotte, North Carolina.

Application Number: 11-04-C-00-CLT.

Application Type: Impose and use a PFC.

PFC Level: $3.00.

Total PFC Revenue Approved in this Decision: $164,302,133.

Earliest Charge Effective Date: July 1, 2020.

Estimated Charge Expiration Date: August 1, 2023.

Class of Air Carriers Not Required To Collect PFCs:

Air taxi/commercial operators filing FAA Form 1800-31.

Determination: Approved. Based on information contained in the public agency's application, the FAA has determined that the approved class accounts for less than 1 percent of the total annual enplanements at Charlotte Douglas International Airport.

Brief Description of Projects Approved for Collection and Use:

Taxiway fixtures.

Rehabilitation of runway 18C/36C, design and construction.

Flight tracking system.

Access road, west aircraft rescue and firefighting building.

2008 Part 150 update.

Taxiway D extension.

Aircraft rescue and firefighting trucks.

New baggage screening system, design and construction.

Pre-conditioned air systems, concourse D.

Concourse E expansion.

Project management services.

East terminal expansion.

New upper level roadway, design and construction.

PFC application development.

Brief Description of Disapproved Project:

Aircraft deicing truck, replacement cab.

Determination: Disapproved. This project is not PFC eligible.

Decision Date: September 15, 2011.

For Further Information Contact: John Marshall, Atlanta Airports District Office, (404) 305-7153.

Amendments to PFC Approvals
Amendment No. City, State | Amended approved date | Original approved net PFC revenue | Amended approved net PFC revenue | Original estimated charge expiration date | Amended estimated charge expiration date
08-08-C-02-EAT, East Wenatchee, WA | 08/26/11 | $366,393 | $306,593 | 10/01/09 | 10/01/09
99-01-C-03-AGS, Augusta, GA | 08/30/11 | 31,482,000 | 27,636,360 | 07/01/30 | 08/01/24
98-04-C-07-SEA, Seattle, WA | 08/30/11 | 963,656,707 | 1,642,074,742 | 09/01/18 | 01/01/27
06-04-C-01-GTR, Columbus, MS | 09/01/11 | 125,000 | 79,148 | 10/01/09 | 10/01/09
06-05-C-02-CLL, College Station, TX | 09/06/11 | 755,492 | 787,528 | 04/01/09 | 04/01/09
00-02-C-04-MFE, McAllen, TX | 09/13/11 | 2,647,000 | 2,586,204 | 05/01/07 | 05/01/07
07-07-C-03-ALO, Waterloo, IA | 09/19/11 | 299,977 | 301,232 | 12/01/10 | 12/01/10
05-04-C-01-SAN, San Diego, CA | 09/20/11 | 110,064,569 | 44,822,518 | 04/01/09 | 04/01/09
06-09-C-01-RNO, Reno, NV | 09/20/11 | 3,400,000 | 3,066,408 | 12/01/07 | 12/01/07
98-03-C-01-RDG, Reading, PA | 09/23/11 | 1,300,000 | 614,622 | 07/01/08 | 07/01/08
11-17-C-01-BNA, Nashville, TN | 09/26/11 | 2,500,000 | 2,512,500 | 03/01/17 | 03/01/17

Issued in Washington, DC, on November 3, 2011.
Joe Hebert,
Manager, Financial Analysis and Passenger Facility Charge Branch.

[FR Doc. 2011-29276 Filed 11-14-11; 8:45 am]

BILLING CODE 4910-13-M